DEPARTMENT OF HEALTH AND HUMAN SERVICES

Solicitation for Written Comments on Proposed Objectives for Healthy People 2030; Correction

AGENCY: Department of Health and Human Services, Office of the Secretary, Office of the Assistant Secretary for Health, Office of Disease Prevention and Health Promotion.

ACTION: Notice; correction.

SUMMARY: The Department of Health and Human Services published a document in the Federal Register of November 27, 2018, concerning request for comments on the proposed Healthy People 2030 objectives. The document contained an incorrect date.

FOR FURTHER INFORMATION CONTACT: Ayanna Johnson, HP2030@hhs.gov.

Correction

In the Federal Register of November 27, 2018, in FR Doc. 2018-25836, on pages 60876-60877, correct the “Dates” caption to read:

DATES: Written comments must be submitted by January 17, 2019.

Dated: November 27, 2018.
Don Wright,
Deputy Assistant Secretary for Health (Disease Prevention and Health Promotion).

[FR Doc. 2018-26299 Filed 12-3-18; 8:45 am]

BILLING CODE 4150-32-P